DEPARTMENT OF COMMERCE

International Trade Administration

[A-570-958]

Certain Coated Paper Suitable for High-Quality Print Graphics Using Sheet-Fed Presses From the People's Republic of China: Rescission of Antidumping Duty Administrative Review; 2019-2020

AGENCY: Enforcement and Compliance, International Trade Administration, Department of Commerce.

SUMMARY: The Department of Commerce (Commerce) is rescinding the administrative review of the antidumping duty order on certain coated paper suitable for high-quality print graphics using sheet-fed presses (coated paper) from the People's Republic of China (China) for the period November 1, 2019, through October 31, 2020, based on the withdrawal of the request for review.

DATES: Applicable June 29, 2021.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On November 3, 2020, the Commerce published in the Federal Register a notice of opportunity to request an administrative review of the antidumping duty (AD) order on coated paper from China.¹ Commerce received a timely-filed request from Verso Corporation (Verso), a domestic interested party and the petitioner in the underlying investigation, for an administrative review of exports of subject merchandise to the United States during the period of review (POR) with respect to 15 companies, in accordance with section 751(a) of the Tariff Act of 1930, as amended, (the Act) and 19 CFR 351.213(b).² On January 6, 2021, pursuant to this request, and in accordance with 19 CFR 351.221(c)(1)(i), Commerce published a notice in the Federal Register initiating an administrative review of the AD order on coated paper from China.³ On March 26, 2021, Verso withdrew its request for an administrative review with respect to all companies for which it requested a review.⁴

¹ See Antidumping or Countervailing Duty Order, Finding, or Suspended Investigation; Opportunity to Request Administrative Review, 85 FR 69586 (November 3, 2020).

² See Verso's Letter, “Administrative Review of the Antidumping Duty Order on Certain Coated Paper Suitable for High-Quality Print Graphics Using Sheet-Fed Presses from the People's Republic of China (11/01/19-10/31/20),” dated November 30, 2020.

³ See Initiation of Antidumping and Countervailing Duty Administrative Reviews, 86 FR 511 (January 6, 2021).

⁴ See Verso's Letters, “Withdrawal of Request for Administrative Review,” dated March 26, 2021 (withdrawing Verso's request for review generally, but only specifically listing 14 companies); and “Withdrawal of Request for Administrative Review,” dated May 5, 2021 (clarifying that Verso's withdrawal unintentionally omitted Sinar Mas Paper Investment Co., Ltd. from the first withdrawal request).

Rescission of Review

Pursuant to 19 CFR 351.213(d)(1), Commerce will rescind an administrative review, in whole or in part, if the party or parties that requested the review withdraws its request within 90 days of the publication date of the notice of initiation of the requested review. Verso timely submitted a request to withdraw its request for an administrative review for all companies for which an administrative review was initiated and later clarified that its initial submission applied to all companies, although it omitted one by name. No other party requested an administrative review of the order. Therefore, in accordance with 19 CFR 351.213(d)(1), we are rescinding this review, in its entirety.

Assessment

Commerce intends to instruct U.S. Customs and Border Protection (CBP) to assess antidumping duties on all appropriate entries of coated paper from China. Antidumping duties shall be assessed at rates equal to the cash deposit of estimated antidumping duties required at the time of entry, or withdrawal from warehouse, for consumption in accordance with 19 CFR 351.212(c)(1)(i). Commerce intends to issue appropriate assessment instructions to CBP 35 days after the date of publication of this notice in the Federal Register.

Notification to Importers

This notice serves as the only reminder to importers, whose entries will be liquidated as a result of this rescission notice, of their responsibility under 19 CFR 351.402(f)(2) to file a certificate regarding the reimbursement of antidumping and/or countervailing duties prior to liquidation of the relevant entries during this review period. Failure to comply with this requirement could result in the presumption that reimbursement of the antidumping and/or countervailing duties occurred and the subsequent assessment of double antidumping duties.

Notification Regarding Administrative Protective Order

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: June 24, 2021.
James Maeder,
Deputy Assistant Secretary for Antidumping and Countervailing Duty Operations.

[FR Doc. 2021-13833 Filed 6-28-21; 8:45 am]

BILLING CODE 3510-DS-P